DEPARTMENT OF TRANSPORTATION

Federal Aviation Administration

[Docket No. 2019-0599]

Agency Information Collection Activities: Requests for Comments; Clearance of Renewed Approval of Information Collection: Medical Standards and Certification

AGENCY: Federal Aviation Administration (FAA), DOT.

ACTION: Notice and request for comments.

SUMMARY: In accordance with the Paperwork Reduction Act of 1995, FAA invites public comments about our intention to request the Office of Management and Budget (OMB) approval to renew an information collection. The collection involves information applicants must provide on an application for an FAA medical certificate. The information to be collected will be used to evaluate an applicant's medical fitness.

DATES: Written comments should be submitted by October 15, 2019.

ADDRESSES: Please send written comments:

By Electronic Docket: www.regulations.gov (Enter docket number into search field)

By mail: Nicole Harrison, Federal Aviation Administration, AAM-120, 800 Independence Ave. SW, Washington, DC 20591

FOR FURTHER INFORMATION CONTACT: Judi Citrenbaum by email at: judi.m.citrenbaum@faa.gov; phone: 202-267-9689.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0034.

Title: Medical Standards and Certification.

Form Numbers: FAA Forms 8500-7, 8500-8, 8500-14.

Type of Review: Renewal of an information collection.

Background: The Secretary of Transportation collects this information under the authority of 49 U.S.C. 40113; 44701; 44510; 44702; 44703; 44709; 45303; and 80111. The FAA medical certification program is implemented by Title 14 Code of Federal Regulations (CFR) parts 61 and 67 (14 CFR parts 61 and 67). The Federal Aviation Administration (FAA) determines if applicants are medically qualified to perform the duties associated with the class of medical certificate sought by evaluating the information applicants provide on FAA Form 8500-8. Also, the agency uses two vision forms, as indicated, for individuals who may need further eye evaluation.

Respondents: 405,345 (all three forms).

Frequency: On occasion.

Estimated Average Burden per Response: 1.5 Hours.

Estimated Total Annual Burden: 585,517 Hours.

Issued in Washington, DC, on August 7, 2019.
Nicole Harrison,
Management and Program Analyst, Office of Aerospace Medicine, Management and Personnel Systems Branch, AAM-120.

[FR Doc. 2019-17235 Filed 8-12-19; 8:45 am]

BILLING CODE 4910-13-P